DEPARTMENT OF THE INTERIOR

Fish and Wildlife Service

[FWS-R3-FHC-2011-N187; 30140-1335-0000-W4]

Fisheries and Habitat Conservation; Draft Environmental Impact Statement for the Proposed Demolition of the Ballville Dam on the Sandusky River, Fremont, OH

AGENCY: Fish and Wildlife Service, Interior.

ACTION: Notice of intent; announcement of meeting; request for comments.

SUMMARY: We, the U.S. Fish and Wildlife Service (Service), advise the public that we intend to prepare a draft environmental impact statement (EIS) to evaluate the impacts of the proposed demolition of the Ballville Dam, located on the Sandusky River, near the City of Fremont in Sandusky County, Ohio. We are also announcing a public meeting and requesting public comments.

DATES: The public scoping period begins with publication of this notice in the Federal Register and will continue through November 21, 2011. The Service will consider all comments defining the scope of the EIS received or postmarked by this date. Comments received or postmarked after this date will be considered to the extent practicable. The Service will conduct a public scoping meeting in Fremont, Ohio, on October 27, 2011, from 7 to 9 p.m. The scoping meeting will provide the public with an opportunity to present comments, ask questions, and discuss issues with Service staff regarding the draft EIS.

ADDRESSES: The meeting will take place at Vanguard Vocational School Tech Center, 1220 Cedar Street, Fremont, OH 43420.

You may submit comments by any one of the following methods:

• U.S. mail or hand-delivery: Brian Elkington, U.S. Fish and Wildlife Service, Fisheries, 5600 American Boulevard West, Suite 990, Bloomington, MN 55437-1458.

• E-mail: Ballvilledam@fws.gov.

• Fax: (612) 713-5289 (Attention: Brian Elkington).

FOR FURTHER INFORMATION CONTACT: Brian Elkington, 612-713-5168. Individuals who are hearing impaired or speech impaired may call the Federal Relay Service at 800-877-8337 for TTY assistance.

SUPPLEMENTARY INFORMATION: We publish this notice in compliance with the National Environmental Policy Act (NEPA) of 1969, as amended (42 U.S.C. 4321 et seq.), and its implementing regulations (40 CFR 1506.6). The Service, in cooperation with the Ohio Department of Natural Resources (ODNR) and the Ohio Environmental Protection Agency (OEPA), will prepare a draft environmental impact statement (EIS) on a proposal to remove the Ballville Dam from the Sandusky River. The purpose of the draft EIS is to address the environmental, economic, cultural and historical, and safety issues associated with removal of the dam.

Ballville Dam is currently a complete barrier to upstream fish passage for the commercially and recreationally valuable Sandusky River walleye stock. Removal of the dam will restore access to approximately 22 miles of previously unavailable riverine habitat, including an estimated 300 acres of suitable walleye spawning habitat. Removal of the dam is anticipated to restore the designated beneficial uses to this segment of the river. Additionally, ODNR has identified a number of safety hazards associated with the condition of the 97-year old structure. Removal of the dam will alleviate these hazards. Current funding for the dam removal is being provided through grants from the Service, through the Great Lakes Restoration Initiative (GLRI) under the Great Lakes Fish and Wildlife Restoration Act (GLFWRA); the OEPA's Water Resource Restoration Sponsor Program; and the Clean Water Act's section 319 nonpoint source pollution prevention program, which is administered by OEPA.

Letters describing the proposed action and soliciting comments will be sent to appropriate Federal, State, and local agencies, and to private organizations and citizens who have previously expressed or are known to have interest in this proposal. After the draft EIS is released, a public meeting will be held at a place to be determined to solicit comments. To ensure that the full range of issues related to this proposed action are addressed and all significant issues identified, comments and suggestions are invited from all interested parties.

Public Comments

The Service requests data, comments, new information, or suggestions from the public, concerned governmental agencies, the scientific community, Tribes, industry, or any other interested party on this notice. These comments will be considered in the development of the draft EIS.

You may submit your comments and materials considering this notice by one of the methods listed in the ADDRESSES section.

Public Availability of Comments

All comments and materials we receive in response to this request will be available for public inspection, by appointment, during normal business hours at the address listed in the ADDRESSES section of this notice.

Before including your address, phone number, e-mail address, or other personal identifying information in your comment, you should be aware that your entire comment—including your personal identifying information—may be made publicly available at any time. While you can ask us in your comment to withhold your personal identifying information from public review, we cannot guarantee that we will be able to do so.

Background

Ballville Dam was built in 1913 for hydroelectric power generation. The City of Fremont purchased the dam in 1959 from the Ohio Power Company, which no longer used the dam for generating electricity, for the purpose of supplying raw water to the city. With the construction of a raw water reservoir, completion expected by the end of 2011, the dam will no longer be required for this purpose. In 2007, the ODNR issued a Notice of Violation (NOV) to the City, stating that the dam was being operated in violation of the law as a result of its deteriorated condition. The Ballville Dam cannot be rendered safe without expenditure of large sums of money. Removal of the dam will achieve the objective of opening approximately 22 miles of riverine habitat, including an estimated 300 acres of suitable walleye spawning habitat, that is currently inaccessible, thereby increasing walleye populations and stimulating the sport fishing and tourism industries. It will also help to restore impaired water quality in the project area.

Environmental Review

The Service will conduct an environmental review to analyze alternatives for implementing the proposed action and the associated impacts of each. The draft EIS will evaluate alternatives that are developed and the impact of each of those alternatives, including a no action alternative. Following completion of the environmental review, the Service will publish a notice of availability and a request for comments on the draft EIS.

Authority

This notice is being furnished as provided for by NEPA and its implementing Regulations (40 CFR1501.7 and 1508.22). The intent of the notice is to obtain suggestions and additional information from other agencies and the public on the scope of issues to be considered. Comments and participation in this scoping process are solicited.

Mike Weimer,
Assistant Regional Director, Fisheries, Midwest Region.

[FR Doc. 2011-27244 Filed 10-20-11; 8:45 am]

BILLING CODE P